DEPARTMENT OF THE INTERIOR

Bureau of Land Management

[OR-030-1020-PG; G 04-0002]

Teleconference Meeting Motice for the John Day/Snake Resource Advisory Council

AGENCY: Bureau of Land Management (BLM), Vale District, Interior.

ACTION: Teleconference meeting notice for the John Day/Snake Resource Advisory Council.

SUMMARY: The John Day/Snake Resource Advisory Council (JDSRAC) will conduct a public meeting by teleconference on Tuesday, October 21 from 6:30 p.m. to 7:30 p.m. Pacific Time inclusive. The meeting is open to the public, however, teleconference lines are limited. Please call or contact Peggy Diegan at the Vale District Office, 100 Oregon Street, Vale, OR 97918 (541) 473-3144 or e-mail Peggy_Diegan@or.blm.gov to obtain the dial-in number. During the teleconference, the JDSRAC will come to consensus on their Program of Work for the year, Sustaining Working Landscapes and Sagegrouse Strategy.

FOR FURTHER INFORMATION CONTACT: Any member of the public wishing further information concerning the meeting or who wishes to submit oral or written comments should contact Debbie Lyons at the above address (541) 473-6218 or email Debra_Lyons@or.blm.gov. Requests for oral comments must be in writing to Debbie Lyons by October 16, 2003. For teleconference call meetings, opportunities for oral comment will be limited to no more than five minutes per speaker and no more than fifteen minutes total.

Dated: September 30, 2003.
Sandra L. Guches,
Associate District Manager.

[FR Doc. 03-25234 Filed 10-3-03; 8:45 am]

BILLING CODE 4310-33-P